DEPARTMENT OF HEALTH AND HUMAN SERVICES

Administration for Children and Families

Submission for OMB review; Comment Request

Title: Survey of Early Head Start Programs.

OMB No.: New collection.

Description: The Head Start Reauthorization Act of 1994 established a special initiative creating funding for services for families with infants and toddlers. In response, the Administration on Children, Youth and Families (ACYF) within the Administration for Children and Families (ACF) developed the Early Head Start program. Early Head Start programs are designed to produce outcomes in four domains: (1) Child development, (2) family development, (3) staff development, and (4) community development. As a requirement of the Reauthorization Act, ACYF funded a rigorous randomized trial to study the effectiveness of Early Head Start programs, sampling from 17 programs funded in the initial years. That research found positive effects of the program overall in a variety of areas, as well as effects for different program types and levels of implementation, and among study participants with different characteristics.

The aim of the current research is to obtain a national picture of Early Head Start. This initiative will begin a process of describing how the Early Head Start initiative has grown over time, how programs are currently implementing services, and who is being served. The study will be conducted between September 2004 and May 2005.

The data will consist of a survey of all Early Head Start programs in October 2004 and site visits to a selected sample of 25 programs in early 2005. All data collection instruments have been designed to minimize the burden on respondents by minimizing the time required to respond. Participation in the study is voluntary.

The results of the research will be used by the Head Start Bureau and ACF to gain a better understanding of changes in program processes and services over time, to identify areas of strength and weakness in order to target training and technical assistance or further research efforts, and finally, to provide a broader context for lessons learned from the impact study.

Respondents: Early Head Start directors, Early Head Start coordinators and specialists, teachers, home visitors, and parents of Early Head Start children.

Annual Burden Estimates
Instrument | Number of respondents | Number of responses per respondent | Average burden hours per response | Total burden hours
Survey of Programs (2004) | ᵃ 595 | 1 | 3.0 | 1,785.0
Site Visit Protocol (2005)
Director Protocol | 25 | 1 | 3.0 | 75.0
Coordinator/Specialist Protocol: ᵇ
Community Partnership | 25 | 1 | 1.0 | 25.0
Disabilities | 25 | 1 | 1.0 | 25.0
Early Childhood | 25 | 1 | 1.0 | 25.0
Family Partnership | 25 | 1 | 1.0 | 25.0
Home Visiting | 25 | 1 | 1.0 | 25.0
Teacher Protocol ᶜ | 125 | 1 | 1.5 | 187.5
Home Visitor Protocol ᶜ | 125 | 1 | 1.5 | 187.5
Parent Protocol ᶜ | 125 | 1 | 1.5 | 187.5
Total for Site Visits | 25 |  |  | 762.5
Estimated Total Annual Burden 2004 |  |  |  | 1785.5
Estimated Total Annual Burden 2005 |  |  |  | 762.5
ᵃ Assumes an 85 percent response rate for the survey.
ᵇ Not all programs will ahve staff in each position, therefore, burden estimates for some programs may be overstated.
ᶜ Assumes groups interviews with up to five individuals per site. Assumes that all sites have both home visitors and teachers, although when that is not the case, the burden estimates will be overstated.

Additional Information

Copies of the proposed collections may be obtained by writing to the Administration for Children and Families, Office of Administration, Office of Information Services, 370 L'Enfant promenade, SW., Washington, DC 20447, Attn: ACF Reports Clearance Officer. All requests should be identified by the title of the information collection. E-mail address: grjohnson@acf.hhs.gov.

OMB Comment

OMB is required to make a decision concerning the collection of information between 30 and 60 days after publication of this document in the Federal Register. Therefore, a comment is best assured of having its full effect if OMB receives it within 30 days of publication. Written comments and recommendation for the proposed information collection should be sent directly to the following: Office of Management and Budget, Paperwork Reduction Project, Attn: Desk Officer for ACF, E-mail address: Katherine_T._Astrich@omb.eop.gov.

Dated: September 7, 2004.
Robert Sargis,
Reports Clearance Officer.

[FR Doc. 04-20782 Filed 9-14-04; 8:45 am]

BILLING CODE 4184-01-M